ENVIRONMENTAL PROTECTION AGENCY

[ER-FRL-6691-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

DRAFT EISs

EIS No. 20070243, ERP No. D-AFS-J65485-WY, Thunder Basin Analysis Area Vegetation Management, To Implement Best Management Grazing Practices and Activities, Douglas Ranger District, Medicine Bow-Routt National Forests and Thunder Basin National Grassland, Campbell, Converse and Weston Counties, WY. Summary: EPA's comments on the draft EIS have not been addressed or incorporated into the final EIS. Accordingly, EPA continues to have environmental concerns related to riparian area condition, water quality, drought management plans, soil quality and the degree of planning and commitment to adaptive management. Rating EC2.

EIS No. 20070247, ERP No. D-NRC-C06017-NY, GENERIC—James A. Fitzpatrick Nuclear Power Plant, License Renewal of Nuclear Plant, Site Specific Supplement 31 to NUREG-1437, Town of Sriba, NY. Summary: EPA expressed environmental concern about entrainment issues and requested an analysis of intentional destructive acts. Rating EC2.

EIS No. 20070266, ERP No. D-SFW-B64005-00, Lake Umbagog National Wildlife Refuge, Comprehensive Conservation Plan, 15 Year Guidance for Management of Refuge Operations, Habitat and Visitor Services, Implementation, Coos County, NH and Oxford County, ME. Summary: EPA does not object to the proposed project. Rating LO.

EIS No. 20070278, ERP No. D-FHW-K40264-CA, Tier 1—Placer Parkway Corridor Preservation Project, Select and Preserve a Corridor for the Future Construction from CA-70/99 to CA 65, Placer and Sutter Counties, CA. Summary: EPA expressed environmental concerns about water quality and air quality impacts and growth-inducing effects to aquatic and biological resources. Rating EC2.

EIS No. 20070289, ERP No. D-SFW-K99037-AZ, Horseshoe and Bartlett Reservoirs Project, To Store and Release Water, Issuance of an Incidental Take Permit for Operation, Located Northeast of Phoenix, Maricopa and Yavapai Counties, AZ. Summary: EPA does not object to the proposed project. Rating LO.

EIS No. 20070327, ERP No. D-FTA-G59003-TX, Denton to Carrollton Regional Rail Corridor Project, Transportation Improvements between Downtown Denton and the Dallas Area Rapid (DART) System, Right-of-Way Grant, Denton and Dallas Counties, TX. Summary: EPA expressed environmental concerns about wetland and air quality impacts. Rating EC2.

EIS No. 20070216, ERP No. DS-AFS-L65369-00, Southwest Idaho Ecogroup Land and Resource Management Plan, Additional Information Concerning Terrestrial Management Indicator Species (MIS), Boise National Forest, Payette National Forest and Sawtooth National Forest, Forest Plan Revision, Implementation, Several Counties, ID; Malhaur County, OR and Box Elder County, UT. Summary: EPA supports the management directions and objectives to improve land condition based on MIS habitat, as well as reducing grazing when needed. Rating LO.

EIS No. 20070273, ERP No. DS-MMS-E02011-00, Eastern Planning Area Outer Continental Shelf (OCS) Oil and Gas Lease Sale 224, Gulf of Mexico Offshore Marine Environment and Coastal Parshes/ Counties of LA, MS, AL, and North Western Florida. Summary: EPA expressed environmental concerns about air quality impacts and impacts related to oil spills and drilling discharges. Rating EC2.

EIS No. 20070338, ERP No. DS-TVA-E65073-TN, Watts Bar Reservoir Land Management Plan, Amend and Update the 2005 Plan, Guide Land Use Approvals, Private Water Use Facility, and Resource Management Decisions, Loudon, Meigs, Rhea and Roane Counties, TN. Summary: EPA continues to have environmental concerns about reservoir water quality and shoreline habitat impacts, and prefers the selection of the Modified C alternative due to the reduced development, which would reduce impacts to reservoir water quality and shoreline habitat. Rating EC1.

EIS No. 20070346, ERP No. DS-AFS-K65281-CA, Brown Project, Revised Proposal to Improve Forest Health by Reducing Overcrowded Forest Stand Conditions, Trinity River Management Unit, Shasta-Trinity National Forest, Weaverville Ranger District, Trinity County, CA. Summary: EPA supports the additional road decommissioning to address our concerns with impacts to water quality. However, EPA continues to have environmental concerns about cumulative impacts to air quality, and suggests monitoring and mitigation measures if warranted. Rating EC2.

Final EISs

EIS No. 20070268, ERP No. F-GSA-B81011-VT, U.S. Commercial Port of Entry, Replacing existing Station at Route I-91, Design and Construction, Derby Line, Vermont. Summary: EPA does not object to the proposed project.

EIS No. 20070324, ERP No. F-FAA-C51029-00, New York/New Jersey/Philadelphia Metropolitan Area Airspace Redesign Project, To Increase the Efficiency and Reliability of the Airspace Structure and Air Traffic Control System, NY, NJ and PA. Summary: EPA's previous issues have been resolved; therefore, EPA does not object to the proposed action.

EIS No. 20070333, ERP No. F-AFS-L65536-OR, Spears Vegetation Management Project, Proposal to Use Commercial Timber Harvest, Precommercial Thinning, Prescribed Fire, Grapple Piling and Hand Piling in the Mark Creek Watershed and Veaqie Creek Subwatershed, Lookout Mountain Ranger District, Ochoco National Forest, Crook and Wheeler Counties, OR. Summary: EPA's previous issues have been resolved; therefore, EPA does not object to the proposed action.

EIS No. 20070336, ERP No. F-FHW-J40175-UT, South Logan to Providence Transportation Corridor Project, Improvements to 100 East Street between 300 South (Logan) to Providence Lane (100 North) in Providence, Funding and Right-of Way Grant, Cities of Logan and Providence, Cache County, UT. Summary: EPA's previous issues have been resolved; therefore, EPA does not object to the proposed action.

EIS No. 20070341, ERP No. F-NPS-B61025-MA, Cape Cod National Seashore (CACO) Hunting Program, General Management Plan, Implementation, Barnstable County, MA. Summary: EPA does not object to the proposed project.

EIS No. 20070345, ERP No. F-BLM-L65503-OR, North Steens Ecosystem Restoration Project, To Reduce Juniper-Related Fuels and Restore Various Plant Communities, Implementation, Andrews Resource Area, Cooperative Management and Protection Area (CMPA), Harney County, OR. Summary: The Final EIS addressed EPA's concerns about document clarity, descriptions of alternatives, as well as issues involving water quality, source water, and riparian vegetation. However, EPA continues to have environmental concerns about the potential air quality impacts.

EIS No. 20070375, ERP No. F-AFS-L65502-AK, Kuiu Timber Sale Area, Proposes to Harvest Timber and Build Associated Temporary Roads, U.S. Army COE Section 10 and 404 Permits, North Kuiu Island, Petersburg Ranger District, Tongass National Forest, AK. Summary: The Final EIS addressed EPA's concerns about short-term impacts to watersheds, cumulative harvest level, and timeframe mass movement. However, EPA continues to have environmental concerns about sediment impacts to wetlands and aquatic wildlife, and supports the selection of Alternative 2 which would minimize these impacts.

Dated: October 2, 2007.
Robert W. Hargrove,
Director, NEPA Compliance Division, Office of Federal Activities.

[FR Doc. E7-19719 Filed 10-4-07; 8:45 am]

BILLING CODE 6560-50-P